DEPARTMENT OF THE INTERIOR

Bureau of Land Management

[OR-128-6332-PD, 3-0166]

Notice of Proposed Supplementary Rule on Public Land in Oregon

AGENCY: Bureau of Land Management, Coos Bay District, Oregon, Interior.

ACTION: Proposed supplementary rule for public land within Bear Creek Recreation Site, Coos Bay District, Oregon.

SUMMARY: The Bureau of Land Management (BLM)'s, Coos Bay District, Myrtlewood Field Office is proposing a supplementary rule to change the occupancy and camping stay limit at Bear Creek Recreation Site from 14 days to 24 hours. This rule will apply to the public lands within the Bear Creek Recreation Site in the Myrtlewood Resource Area, Coos Bay District, Douglas County, Oregon. The supplementary rule is needed because the area has experienced numerous and persistent site management problems such as: Assault, illicit drug sales and use, and public drunkenness. The supplementary rule is intended to protect the area's natural resources and provide for public health and safety.

DATES: The BLM requests comments from the public concerning this supplementary rule. The comment period will be open until August 8, 2003. In developing the final rule, BLM may not consider comments postmarked or received in person or by electronic mail after this date.

ADDRESSES: Mail: Bureau of Land Management, Coos Bay District Office, 1300 Airport Lane, North Bend, OR, 97459.

Internet e-mail: coos_bay@or.blm.gov (Include Attn: “Myrtlewood Field Manager”)

FOR FURTHER INFORMATION CONTACT: Richard Conrad, Myrtlewood Field Manager, 1300 Airport Lane, North Bend, OR, 97459, telephone (541) 756-0100.

SUPPLEMENTARY INFORMATION:

I. Public Comment Procedures

II. Discussion of the Supplementary Rule.

III. Procedural Matters.

I. Public Comment Procedures

Electronic Access and Filing Address

You may view an electronic version of this proposed rule at BLM's Internet home page: www.blm.gov. You may also comment via the Internet to coos_bay@or.blm.gov (Include Attn: Myrtlewood Field Manager″). If you do not receive a confirmation from the system that we have received your Internet message, contact us directly at (503-756-0100).

Written Comments

Written comments on the proposed supplementary rule should be specific, confined to issues pertinent to the proposed supplementary rule, and should explain the reason for any recommended change. Where possible, comments should reference the specific section or paragraph of the proposal which the comment addresses. BLM may not necessarily consider or include in the Administrative Record for the final rule comments which BLM receives after the close of the comment period (See DATES) or comments delivered to an address other than those listed above (See ADDRESSES).

Comments, including names, streets addresses, and other contact information about respondents, will be available for public review at (address) during regular business hours (7:45 a.m. to 3:45 p.m.), Monday through Friday, except Federal holidays. Individual respondents may request confidentiality. If you wish to request that BLM consider withholding your name, street address, and other contact information (such as: Internet address, FAX or phone number) from public review or from disclosure under the Freedom of Information Act, you must state this prominently at the beginning of your comment. BLM will honor requests for confidentiality on a case-by-case basis to the extent allowed by law. BLM will make available for public inspection in their entirety all submissions from organizations or businesses, and from individuals identifying themselves as representatives or officials of organizations or businesses.

II. Discussion of the Supplementary Rule

This supplementary rule will apply to the public lands within the Bear Creek Recreation Site. Bear Creek Recreation Site is an 8-site campground located along a remote stretch of State Highway 42, approximately 30 miles east of Myrtle Point, Oregon, or 30 miles west of Roseburg, Oregon, within Section 9 of Township 30 South, Range 9 West of the Willamette Meridian. Since the early 1960s, Bear Creek has been a popular stop for travelers between Roseburg and Coos Bay. Although camping is permitted, visitor use surveys have shown the site is used primarily as a “highway rest stop.” A reroute of State Highway 42 in the late 1970s significantly diminished the rustic character of the site as a campground. Due to its remote location and distance from the Coos Bay District Office, it has been difficult for BLM personnel to maintain an adequate presence at Bear Creek. As a result, there have been numerous and persistent site management problems such as: Assault, illicit drug sales and use, public drunkenness, unsanitary conditions and activities, intimidation of visitors, vandalism, litter, violation of stay limit, etc. BLM proposes to reduce the occupancy and camping stay limit from 14 days to 24 hours. Overnight camping will still be permitted; however, after 24 hours, occupants must move with all of their personal possessions and cannot camp on BLM administered land within a 10-mile radius for 14 days. BLM has determined this rule necessary to protect the area's natural resources and to provide for safe public recreation, public health, and reduce the potential for damage to the environment and to enhance the safety of visitors and neighboring residents.

III. Procedural Matters

Executive Order 12866, Regulatory Planning and Review

This supplementary rule is not a significant regulatory action and is not subject to review by Office of Management and Budget under Executive Order 12866. This supplementary rule will not have an effect of $100 million or more on the economy. It is not intended to affect commercial activity, but merely revises a camping stay limit. It will not adversely affect, in a material way, the economy, productivity, competition, jobs, the environment, public health or safety, or state, local, or tribal governments or communities. These proposed supplementary rules will not create a serious inconsistency or otherwise interfere with an action taken or planned by another agency. The supplementary rules do not alter the budgetary effects of entitlements, grants, user fees, or loan programs or the right or obligations of their recipients; nor do they raise novel legal or policy issues.

Clarity of the Supplementary Rules

Executive Order 12866 requires each agency to write regulations that are simple and easy to understand. We invite your comments on how to make the proposed supplementary rule easier to understand, including answers to questions such as the following:

(1) Are the requirements in the proposed supplementary rule clearly stated?

(2) Does the proposed supplementary rule contain technical language or jargon that interferes with clarity?

(3) Does the format of the proposed supplementary rule (grouping and order of sections, use of headings, paragraphing, etc.) aid or reduce their clarity?

(4) Would the supplementary rule be easier to understand if they were divided into more (but shorter) sections?

(5) Is the description of the proposed supplementary rule in the SUPPLEMENTARY INFORMATION section of this preamble helpful in understanding the proposed supplementary rules? How could this description be more helpful in making the supplementary rule easier to understand?

Please send any comments you have on the clarity of the supplementary rule to the address specified in the ADDRESSES section.

National Environmental Policy Act

BLM has determined that this proposed supplementary rule changing the occupancy and camping stay limit at Bear Creek Recreation Site from 14 days to 24 hours is a purely administrative action. Therefore, it is categorically excluded from environmental review under section 102(2)(C) of the National Environmental Policy Act, pursuant to 516 Departmental Manual (DM), Chapter 2, Appendix 1. In addition, the proposed rule does not meet any of the 10 criteria for exceptions to categorical exclusions listed in 516 DM, Chapter 2, Appendix 2. Pursuant to Council on Environmental Quality regulations (40 CFR 1508.4) and the environmental policies and procedures of the Department of the Interior, the term “categorical exclusions” means a category of actions which do not individually or cumulatively have a significant effect on the human environment and that have been found to have no such effect in procedures adopted by a Federal agency and for which neither an environmental assessment nor an environmental impact statement is required.

Regulatory Flexibility Act

Congress enacted the Regulatory Flexibility Act (RFA) of 1980, as amended, 5 U.S.C. 601-612, to ensure that Government regulations do not unnecessarily or disproportionately burden small entities. The RFA requires a regulatory flexibility analysis if a rule would have a significant economic impact, either detrimental or beneficial, on a substantial number of small entities. The supplementary rules do not pertain specifically to commercial or governmental entities of any size, but to public recreational use of specific public lands. Therefore, BLM has determined under the RFA that the proposed supplementary rule would not have a significant economic impact on a substantial number of small entities.

Small Business Regulatory Enforcement Fairness Act (SBREFA)

This supplementary rule does not constitute a “major rule” as defined at 5 U.S.C. 804(2). Again, the supplementary rule merely revises a camping stay limit. The supplementary rule has no effect on business—commercial or industrial—use of the public lands.

Unfunded Mandates Reform Act

This supplementary rule does not impose an unfunded mandate on state, local, or tribal governments or the private sector of more than $100 million per year; nor does the proposed supplementary rule have a significant or unique effect on state, local, or tribal governments or the private sector. The supplementary rule does not require anything of state, local, or tribal governments. Therefore, BLM is not required to prepare a statement containing the information required by the Unfunded Mandates Reform Act (2 U.S.C. 1531 et seq.)

Executive Order 12630, Governmental Actions and Interference With Constitutionally Protected Property Rights (Takings)

The proposed supplementary rule does not represent a government action capable of interfering with Constitutionally-protected property rights. The rule merely revises a camping stay limit. Therefore, the Department of the Interior has determined that the rule would not cause a taking of private property or require further discussion of takings implications under this Executive Order.

Executive Order 13132, Federalism [Replaces Executive Orders 12612 and 13083.]

The proposed rule will not have a substantial direct effect on the States, on the relationship between the national government and the States, or on the distribution of power and responsibilities among the various levels of government. The rule merely revises a camping stay limit. Therefore, in accordance with Executive Order 13132, BLM has determined that this proposed rule does not have sufficient Federalism implications to warrant preparation of a Federalism Assessment.

Executive Order 12988, Civil Justice Reform

Under Executive Order 12988, the Office of the Solicitor has determined that this proposed rule would not unduly burden the judicial system and that it meets the requirements of sections 3(a) and 3(b)(2) of the Order.

Executive Order 13175, Consultation and Coordination With Indian Tribal Governments

In accordance with Executive Order 13175, we have found that this final rule does not include policies that have tribal implications. The rule merely revises a camping stay limit.

Paperwork Reduction Act

This supplementary rule does not contain information collection requirements that the Office of Management and Budget must approve under the Paperwork Reduction Act of 1995, 44 U.S.C. 3501 et seq.

Author

The principal author of this supplementary rule is Richard Conrad, Myrtlewood Field Manager, Coos Bay District, Bureau of Land Management

For the reasons stated in the preamble, and under the authority of 43 CFR 8365.1-6, we issue the following supplementary rule:

Elaine M. Brong,
Oregon/Washington State Director.

Supplementary Rule for Bear Creek Recreation Site

Under 43 CFR (subpart 8365.1-6), the Bureau of Land Management will enforce the following rule on the public lands within the Bear Creek Recreation Site, Myrtlewood Resource Area/Field Office, Coos Bay District, Oregon.

Sec. 1 Stay limit at Bear Creek Recreation Site

You must not leave personal possessions or stay at Bear Creek Recreation Site longer than twenty-four (24) hours. After twenty-four (24) hours, you must leave with all of your personal possessions and must not camp on BLM-administered land within a 10-mile radius for 14 days.

Sec. 2 Penalties

Under section 303(a) of the Federal Land Policy and Management Act of 1976 (43 U.S.C. 1733(a)) and 43 CFR 8360.0-7, if you violate this supplementary rule on public lands within the boundaries established in the rules, you may be tried before a United States Magistrate and fined no more than $1,000 or imprisoned for no more than 12 months, or both. Such violations may also be subject to the enhanced fines provided for by 18 U.S.C. 3571.

[FR Doc. 03-17390 Filed 7-8-03; 8:45 am]

BILLING CODE 4310-33-P